DEPARTMENT OF COMMERCE

National Oceanic and Atmospheric Administration

[I.D. 111904B]

Gulf of Mexico Fishery Management Council; Public Hearings

AGENCY: National Marine Fisheries Service (NMFS), National Oceanic and Atmospheric Administration (NOAA), Commerce.

ACTION: Notice of public hearing; request for comments.

SUMMARY: The Gulf of Mexico Fishery Management Council (Council) will hold a public hearing to solicit comments on “Draft Amendment 3 for Addressing EFH Requirements, Habitat Areas of Particular Concern (HAPCs), and Adverse Effects of Fishing in the Following Fishery Management Plans of the Gulf of Mexico: Shrimp, Red Drum, Reef fish, Stone Crab, Coral and Coral Reef in the Gulf of Mexico and Spiny Lobster and the Coastal Migratory Pelagic Resources of the Gulf of Mexico and South Atlantic.” The Amendment contains proposed alternatives to further identify EFH, establish HAPCs, and to the extent practicable prevent adverse impacts of fishing activities on coral in HAPCs.

DATES: The public hearing will be held December 7, 2004, beginning at 6 p.m. and concluding not later than 9 p.m. Public comments received by mail or e-mail that are received in the Council office by 5 p.m., December 8, 2004, will be presented to the Council.

ADDRESSES: The public hearing will be held at the DoubleTree Guest Suites Tampa Bay, 3050 North Rocky Point Drive West, Tampa, FL 33607 Phone: (813) 888-8800.

Send written comments to: Gulf of Mexico Fishery Management Council, 3018 U.S. Highway 301, North, Suite 1000, Tampa, FL 33619.

FOR FURTHER INFORMATION CONTACT: Rick Leard, Deputy Executive Director, Gulf of Mexico Fishery Management Council; telephone: (813) 228-2815.

SUPPLEMENTARY INFORMATION: Following the judicial decision in American Oceans Campaign v. Daley (Civil Action No. 99-982), NOAA Fisheries and the Gulf of Mexico Fishery Management Council (Council) prepared a draft “Environmental Impact Statement (EIS) for the Generic Essential Fish Habitat (EFH) Amendment to the Following Fishery Management Plans of the Gulf of Mexico: Shrimp, Red Drum, Reef fish, Stone Crab, Coral and Coral Reef in the Gulf of Mexico and Spiny Lobster and the Coastal Migratory Pelagic Resources of the Gulf of Mexico and South Atlantic.” The draft EIS analyzes within each fishery a range of potential alternatives to: (1) describe and identify essential fish habitat for each fishery; (2) identify other actions to encourage the conservation and enhancement of such EFH; and (3) identify measures to minimize to the extent practicable any adverse effects of fishing on such EFH. Based on this EIS, the Council has subsequently developed “Draft Amendment 3 for Addressing EFH Requirements, Habitat Areas of Particular Concern (HAPCs), and Adverse Effects of Fishing in the Following Fishery Management Plans of the Gulf of Mexico: Shrimp, Red Drum, Reef fish, Stone Crab, Coral and Coral Reef in the Gulf of Mexico and Spiny Lobster and the Coastal Migratory Pelagic Resources of the Gulf of Mexico and South Atlantic.” The Amendment contains proposed alternatives to further identify EFH, establish HAPCs, and to the extent practicable prevent adverse impacts of fishing activities on coral in HAPCs.

This meeting is physically accessible to people with disabilities. Requests for sign language interpretation or other auxiliary aids should be directed to Dawn Aring at the Council (see ADDRESSES) by November 30, 2004.

Dated: November 19, 2004.
Alan D. Risenhoover,
Deputy Director, Office of Sustainable Fisheries, National Marine Fisheries Service.

[FR Doc. E4-3330 Filed 11-24-04; 8:45 am]

BILLING CODE 3510-22-S